DEPARTMENT OF HEALTH AND HUMAN SERVICES

Health Resources and Services Administration

Notice of Supplemental Funding; National Rural Health Policy, Community, and Collaboration Program

AGENCY: Health Resources and Services Administration (HRSA), Department of Health and Human Services.

ACTION: Notice of supplemental funding.

SUMMARY: HRSA provided supplemental funds to the sole award recipient of the National Rural Health Policy, Community, and Collaboration Program to enhance rural health state partnerships, support ongoing work with technical assistance recipients, and work to support a toolkit designed to assist rural health networks.

FOR FURTHER INFORMATION CONTACT: Alexa Ofori, Senior Advisor, Federal Office of Rural Health Policy, HRSA, at aofori@hrsa.gov and 301-945-3986.

SUPPLEMENTARY INFORMATION:

Intended Recipient of the Award: National Rural Health Association.

Amount of Non-Competitive Award: One award for $710,000.

Project Period: August 1, 2024, through July 31, 2029.

Assistance Listing (CFDA) Number: 93.155.

Authority: Section 711 of the Social Security Act (42 U.S.C. 912).

Table 1—Recipients and Award Amounts
Grant No. | Award recipient name | City, State | Award amount
U16RH03702 | National Rural Health Association | Leawood, KS | $710,000

Justification: The purpose of the National Rural Health Policy, Community, and Collaboration Program is to identify, engage, educate, and collaborate with rural stakeholders on national rural health policy issues and promising practices to improve health care in rural areas nationwide. These activities build on past and ongoing National Rural Health Association projects supported by HRSA and align with the goals of the program to educate rural stakeholders about national policy issues and promising practices for rural health and to facilitate collaboration with key stakeholders to improve the exchange of information and promising practices that support rural health.

Diana Espinosa,
Principal Deputy Administrator.

[FR Doc. 2024-27088 Filed 11-19-24; 8:45 am]

BILLING CODE 4165-15-P